ENVIRONMENTAL PROTECTION AGENCY

40 CFR Part 52

[R03-OAR-2005-PA-0008; FRL-7917-2]

Approval and Promulgation of Air Quality Implementation Plans; Pennsylvania; VOC and NOX RACT Determinations for Eleven Individual Sources; Partial Withdrawal of Direct Final Rule

AGENCY: Environmental Protection Agency (EPA).

ACTION: Partial withdrawal of direct final rule.

SUMMARY: Due to incomplete information contained in the Commonwealth's submission, EPA is withdrawing an individual source that was included as part of a direct final rule to approve Pennsylvania's SIP pertaining to source-specific volatile organic compounds (VOC) and nitrogen oxides (NOX) RACT determinations for eleven individual sources located in Pennsylvania. The direct final rule was published on March 31, 2005 (70 FR 16416). Subsequently, EPA is withdrawing the one provision of that direct final rule.

DATES: The addition of the entry for Dart Container Corporation in 40 CFR 52.2020 (d)(1) published at 70 FR 16419 is withdrawn as of May 26, 2005.

FOR FURTHER INFORMATION CONTACT: Pauline De Vose, (215) 814-2186 , or by e-mail at devose.pauline@epa.gov.

SUPPLEMENTARY INFORMATION: See the information provided in the direct final rule located in the Rules and Regulations section of the March 31, 2005, Federal Register (70 FR 16416). EPA is withdrawing only the provision for one individual source, namely, Dart Container Corporation, Upper Leacock Township, Lancaster County, Pennsylvania. The other actions in the March 31, 2005, Federal Register are not affected.

List of Subjects in 40 CFR Part 52

Environmental protection, Air pollution control, Incorporation by reference, Nitrogen dioxide, Ozone, Reporting and recordkeeping requirements, Volatile organic compounds.

Dated: May 16, 2005.
Donald S. Welsh,
Regional Administrator, Region III.

Accordingly, the addition of the entry for Dart Container Corporation in 40 CFR 52.2020(d)(1) published at 70 FR 16419 is withdrawn as of May 26, 2005.

[FR Doc. 05-10511 Filed 5-25-05; 8:45 am]

BILLING CODE 6560-50-P